DEPARTMENT OF THE INTERIOR

Fish and Wildlife Service

Aquatic Nuisance Species Task Force Caulerpa taxifolia Prevention Committee

AGENCY: Fish and Wildlife Service, Interior.

ACTION: Notice of meeting.

SUMMARY: This notice announces a workshop sponsored by the Aquatic Nuisance Species (ANS) Task Force Caulerpa taxifolia Prevention Committee. The workshop topics are identified in the Supplementary Information.

DATES: The Caulerpa taxifolia Prevention Committee will meet from 8:00 a.m. to 5:00 p.m., Tuesday, July 10, 2001, and 8:00 a.m. to noon on Wednesday, July 11, 2001.

ADDRESSES: The Caulerpa taxifolia Prevention Committee workshop will be held at the Holiday Inn-San Diego Bayside, 4875 North Harbor Drive, San Diego, CA 92106-2394.

FOR FURTHER INFORMATION CONTACT: Sandra M. Keppner, Caulerpa taxifolia Prevention Committee Chairperson, at 716-691-5456 ext 23 or by e-mail at sandra_keppner@fws.gov; or Sharon Gross, Executive Secretary, Aquatic Nuisance Species Task Force at 703-358-2308 or by e-mail at sharon_gross@fws.gov.

SUPPLEMENTARY INFORMATION: Pursuant to section 10(a)(2) of the Federal Advisory Committee Act (5 U.S.C. App. I), this notice announces a workshop of the Aquatic Nuisance Species Caulerpa taxifolia Prevention Committee. The Task Force was established by the Nonindigenous Aquatic Nuisance Prevention and Control Act of 1990 (16 U.S.C. 4701-4741). Topics to be addressed at the Caulerpa taxifolia Prevention Committee workshop include: the problems, costs, and lessons learned in regional efforts to manage invasive marine algal species; an overview of the coordinated response approach in California including a review of control and eradication efforts planned; an overview of efforts to engage California in ANS management planning: and a working review of an action plan including the draft comprehensive national prevention program developed by the Committee.

Minutes of the meeting will be maintained by the Executive Secretary, Aquatic Nuisance Species Task Force, Suite 810, 4401 North Fairfax Drive, Arlington, Virginia 22203-1622. Minutes for the meeting will be available at these locations for public inspection during regular business hours, Monday through Friday.

Dated: June 25, 2001.
Cathleen I. Short,
Co-Chair, Aquatic Nuisance Species Task Force, Assistant Director—Fisheries and Habitat Conservation.

[FR Doc. 01-16375 Filed 6-28-01; 8:45 am]

BILLING CODE 4310-55-M